Title 3—

The President

Proclamation 9286 of May 22, 2015

National Hurricane Preparedness Week, 2015

By the President of the United States of America

A Proclamation

Hurricanes cause devastating and sometimes deadly damage, with violent winds and heavy rains destroying buildings, inundating both coastal and inland areas, and displacing residents from their communities. Each year, we call attention to the risks hurricanes and tropical storms pose, as well as the steps we can take to protect ourselves, our loved ones, and our communities. During National Hurricane Preparedness Week, we recommit to strengthening the capacity of local responders and creating resilient cities, towns, and neighborhoods that are prepared when disaster strikes.

My Administration continues to partner with State, local, and tribal governments, helping them prepare for and respond to hurricanes. We are supporting new technology to help families develop emergency plans, determine evacuation routes, and receive disaster alerts; once a storm has passed, these tools can also help connect residents to resources—from clean water and shelter to information about power outages and gas station closings. We continue to fund rebuilding efforts in areas devastated by hurricanes, ensuring new infrastructure can withstand future storms. And to bolster our recovery efforts for the long term, we have instituted a Unified Federal Review process to help those in need of recovery assistance better navigate the permits and environmental reviews necessary to ensure a rapid and resilient recovery.

Hurricane-associated storm intensity and rainfall rates are projected to increase during this century, in part due to increasing sea surface temperatures. These changes, combined with rising sea levels, could lead to additional damage and higher costs in both coastal and inland communities. That is why, as part of my Climate Action Plan, my Administration is taking steps to prepare for and combat these effects. We are supporting communities with Federal resources, and earlier this year, I signed an Executive Order that establishes a flood standard for new and rebuilt federally funded structures in and around floodplains.

Preparing for and responding to hurricanes is a team effort—everyone has a role to play in keeping our communities safe. Now is the time for each of us to take simple steps to prepare our families for severe weather. Find out today if you live in a storm surge evacuation zone, a low-lying floodplain, or any other location from which you might need to evacuate. I encourage all Americans living in hurricane-threatened areas to build an emergency supply kit, learn evacuation routes, make a family communication strategy, and practice this plan. During a storm, always be sure to follow the instructions of State, local, and tribal officials. To learn more about ways to prepare for hurricanes and other natural disasters, visit www.Ready.gov and www.Hurricanes.gov/Prepare.

As we enter hurricane season, remember that disaster preparedness is a shared responsibility. Together, let us rededicate ourselves to ensuring the safety of our loved ones and neighbors by building communities ready to weather storms and all natural disasters.

NOW, THEREFORE, I, BARACK OBAMA, President of the United States of America, by virtue of the authority vested in me by the Constitution and the laws of the United States, do hereby proclaim May 24 through May 30, 2015, as National Hurricane Preparedness Week. I call upon government agencies, private organizations, schools, media, and residents in the coastal areas of our Nation to share information about hurricane preparedness and response to help save lives and protect communities.

IN WITNESS WHEREOF, I have hereunto set my hand this twenty-second day of May, in the year of our Lord two thousand fifteen, and of the Independence of the United States of America the two hundred and thirty-ninth.

[FR Doc. 2015-13051

Filed 5-27-15; 8:45 am]

Billing code 3295-F5